ADVISORY COUNCIL ON HISTORIC PRESERVATION

Notice of Change of Address and Phone Numbers of the Advisory Council on Historic Preservation

AGENCY: Advisory Council on Historic Preservation.

ACTION: The Advisory Council on Historic Preservation will move to a new location, resulting in a change of physical address and phone numbers.

SUMMARY: The Advisory Council on Historic Preservation (ACHP) will be moving from its current location on May 28, 2014. As of Monday, June 2, 2014, the new address and main phone numbers for the ACHP will be: 401 F Street NW., Suite 308, Washington, DC 20001-2637; (202) 517-0200; (202) 517-6381 (fax). All email addresses will remain the same. The ACHP Web site address, at www.achp.gov, will also remain the same.

DATES: The ACHP will move from its current location on May 28, 2014. It will arrive at its new location on June 2, 2014.

ADDRESSES: Starting on June 2, 2104, the ACHP's new address will be 401 F Street NW., Suite 308, Washington, DC 20001-2637. The new main office number will be (202) 517-0200. The new fax number will be (202) 517-6381. The new, individual staff phone numbers will be posted on the ACHP Web site (www.achp.gov). The ACHP electronic mail addresses and Web site address will remain the same.

FOR FURTHER INFORMATION CONTACT: Cindy Bienvenue, at cbienvenue@achp.gov or (202) 606-8521.

Authority: 16 U.S.C. 470j.

Dated: May 16, 2014.
Javier E. Marques,
Associate General Counsel.

[FR Doc. 2014-11826 Filed 5-21-14; 8:45 am]

BILLING CODE 4310-K6-P